DEPARTMENT OF HEALTH AND HUMAN SERVICES

Centers for Medicare & Medicaid Services

42 CFR Parts 412, 413, 431, 495, and 512

[CMS-1833-CN]

RIN 0938-AV45

Medicare Program; Hospital Inpatient Prospective Payment Systems for Acute Care Hospitals and the Long-Term Care Hospital Prospective Payment System and Policy Changes and Fiscal Year 2026 Rates; Requirements for Quality Programs; and Other Policy Changes; Correction

AGENCY: Centers for Medicare & Medicaid Services (CMS), Department of Health and Human Services (HHS).

ACTION: Proposed rule; correction.

SUMMARY: This document corrects technical and typographical errors in the proposed rule that appeared in the April 30, 2025 Federal Register titled “Medicare Program; Hospital Inpatient Prospective Payment Systems for Acute Care Hospitals and the Long-Term Care Hospital Prospective Payment System and Policy Changes and Fiscal Year 2026 Rates; Requirements for Quality Programs; and Other Policy Changes”.

FOR FURTHER INFORMATION CONTACT:

Lily Yuan, NewTech@cms.hhs.gov, New Technology Add-On Payments Issues.

Julia Venanzi, julia.venanzi@cms.hhs.gov, Hospital Inpatient Quality Reporting Program and Hospital Value-Based Purchasing Program.

Michael Raftery, (410) 786-4487 or DAC@cms.hhs.gov, Medicare Uncompensated Care Payments.

Jessica Warren, jessica.warren@cms.hhs.gov, Medicare Promoting Interoperability Program.

Lang Le, lang.le@cms.hhs.gov, Hospital Readmissions Reduction Program—Administration Issues.

I. Background

In FR Doc. 2025-06271 of April 30, 2025 (90 FR 18002), there were a number of typographical and technical errors that are identified and corrected in this correcting document.

II. Summary of Errors

On page 18291 in our discussion of the Hospital Value-Based Purchasing Program, we are correcting a technical error.

On pages 18006, 18328, 18336, 18337, 18338, 18343, 18409, and 18411 in our discussion of the Hospital Inpatient Quality Reporting Program, we are correcting several technical and typographical errors.

On page 18095, in our discussion of the FY 2026 applications for new technology add-on payments (traditional pathway), we are correcting a technical error.

On pages 18256 through 18258, in our discussion of the proposed uncompensated care payment calculations of Factor 1 and Factor 2, we are correcting several typographical errors.

On page 18284, in our discussion of the Hospital Readmissions Reduction Program, we are correcting a technical error.

On pages 18363, 18368, 18369, and 18373 in our discussion of the Medicare Promoting Interoperability Program, we are correcting several technical and typographical errors.

III. Correction of Errors

In FR Doc. 2025-06271 of April 30, 2025 (90 FR 18002), we are making the following corrections:

1. On page 18006, first column, last paragraph, line 17, the phrase “April 1, 2023-March 30, 2025” is corrected to read “April 1, 2023-March 31, 2025”.

2. On page 18095, second column, first full paragraph, lines 8 and 9, the phrase “with subsequent” is corrected to read “without subsequent”.

3. On page 18256,

a. Second column, third full paragraph,

(1) Line 6, the figure “$15.682” is corrected to “$15.791”.

(2) Line 13, the figure “$3.92” is corrected to “$3.95”.

(3) Line 20, the figure “$11.761” is corrected to “$11.843”.

(4) Line 23, the figure “$15.682” is corrected to “$15.791”.

b. Third column, first partial paragraph, line 1, the figure “$3.92” is corrected to “$3.95”.

4. On page 18257, top of the page, in the table titled “Factors Applied for FY 2023 Through FY 2026 to Estimate Medicare DSH Expenditures Using FY 2022 Baseline”,

a. Fifth column (Other), line 1 (FY 2023), the figure “1.0504” is corrected to read “1.0577”.

b. Sixth column (Total),

(1) Line 1 (FY 2023), the figure “1.0784” is corrected to read “1.0859”.

(2) Line 3 (FY 2025), the figure “1.0228” is corrected to read “1.0277”.

(3) Line 4 (FY 2026), the figure “1.0331” is corrected to read “1.0330”.

c. Seventh column (Estimated DSH payment (in billions)),

(1) Line 1 (FY 2023), the figure “14.038” is corrected to read “14.136”.

(2) Line 2 (FY 2024), the figure “14.842” is corrected to read “14.946”.

(3) Line 3 (FY 2025), the figure “15.180” is corrected to read “15.286”.

(4) Line 4 (FY 2026), the figure “15.682” is corrected to read “15.791”.

5. On page 18258, second column, fourth full paragraph, line 5, the figure “$7,140,406,650” is corrected to read “$7,190,037,075”.

6. On page 18284, second column, third full paragraph, line 12, through third column, line 7, the sentence “We refer readers to the CMS Measures Management System for more on the list of ICD-10 codes used in the risk adjustment model, available at: https://mmshub.cms.gov/measure-lifecycle/measure-implementation/pre-rulemaking/lists-and-reports/2024-MUC-List-materials” is corrected to read “We refer readers to QualityNet for more on the list of ICD-10 codes used in the risk adjustment model, available at: https://qualitynet.cms.gov/inpatient/measures/readmission/resources.”.

7. On page 18291, third column, fourth full paragraph (section heading), lines 4 and 5, the phrase “FY 2027 Program Year” is corrected to read “FY 2033 Program Year”. 10. On page 18328, second column, first footnote (footnote 310), lines 2 through 4, the hyperlink “https://www.naspa.org/images/uploads/kcs/WHPL_Canon_WB_Well-Being_Concepts_HRQOL_CDC_2017.pdf.” is corrected to read “https://www.naspa.org/images/uploads/kcs/WHPL_Canon_WB_Well-Being_ConceptsHRQOLCDC_2017.pdf.”.

8. On page 18336, first column, fourth full paragraph, lines 26 through 30, the sentence “Removal of this measure would alleviate an estimated annual burden of approximately 525 hours, at a cost of $22,260, across all participating IPPS hospitals (87 FR 49385).” is corrected to read “As stated in section XIII.B.4.d, of the preamble of this proposed rule, removal of this measure would alleviate an estimated annual burden of approximately 509 hours, at a cost of $28,188, across all participating IPPS hospitals.”.

9. On page 18337,

a. Second column, first partial paragraph, lines 6 through 16, the sentences “In the FY 2023 IPPS/LTCH PPS final rule, we estimated a total annual burden of 700,000 hours including hospital and patient burden, at a cost of $21,917,000 to screen all admitted patients in accordance with measure specifications for SDOH-1 (87 FR 49385 through 49386). For SDOH-2, we estimated a total annual burden of 525 hours across all IPPS hospitals, at a cost of $22,260 (87 FR 49385 through 49386).” are corrected to read “As stated in section XIII.B.4.f. of the preamble of this proposed rule, removal of SDOH-1 would alleviate an estimated annual burden for hospitals and patients of 626,009 hours, at a cost of $16,059,753, across all participating IPPS hospitals. Also, as stated in section XIII.B.4.g. of the preamble of this proposed rule, removal of SDOH-2 would alleviate an estimated annual burden of 509 hours, at a cost of $28,188, across all participating IPPS hospitals.”.

b. Third column, second bulleted paragraph, lines 3 and 4, the citation “(87 FR 49257 through 49263)” is corrected to read “(87 FR 49263 through 49267)”.

10. On page 18338, first column, first partial paragraph, lines 14 and 15, the phrase “HAC Reduction Program” is corrected to read “Hospital Readmissions Reduction Program”.

11. On page 18343, first column, fourth paragraph, lines 18 and 19 the citation “(80 FR 49703)” is corrected to read “(80 FR 49701)”.

12. On pages 18363, 18368, and 18369, in Table X.F.-04 titled “Summary of Objectives and Measures for the Medicare Promoting Interoperability Program for the EHR Reporting Period in CY 2026—Continued”,

a. Page 18363, first row (Electronic Prescribing (e-Prescribing)), second column, last line, “CEHRT.*” is corrected to read “CEHRT.”,

b. Page 18368,

(1) Second row (Public Health and Clinical Data Exchange Objective, Public Health Reporting Using TEFCA Measure),

(a) Column 3 (Numerator) the phrase “N/A (measure is Y/N)*” is corrected to read “N/A (measure is Y/N)”.

(b) Column 4 (Denominator) the phrase “N/A (measure is Y/N)*” is corrected to read “N/A (measure is Y/N)”.

(c) Column 5 (Exclusion) the phrase “None*” is corrected to read “None”.

(d) Column 6 (Calculation considerations related to counting unique patients or actions for CY2026 and subsequent years) “N/A (measure is Y/N)*” is corrected to read “N/A (measure is Y/N)”.

(2) Third row (Protect Patient Health Information Objective), second column (Security Risk Analysis Measure), last line, the phrase “occurs.*” is corrected to read “occurs.”.

c. Page 18369, first row (Protect Patient Health Information Objective), second column (Safety Assurance Factors for EHR Resilience (SAFER) Guides Measure), last line, the phrase “years.*” is corrected to read “years.”.

13. On page 18373, second and third columns, second footnote (footnote 419), lines 3 and 4 the hyperlink “https://www.dea.gov/drug-information/drug-scheduling” is corrected to read “https://www.gao.gov/products/gao-21-22”.

14. On page 18409, first and second columns, second footnote (footnote 437),

a. First column, line 2 the phrase “an Evaluation,” is corrected to read “and Evaluation,”.

b. Second column, lines 1 through 4, the hyperlink “https://aspe.hhs.gov/reports/valuing-time-us-departmenthealth-human-services-regulatory-impact-analysesconceptual-framework.” is corrected to read “https://aspe.hhs.gov/reports/valuing-time-us-department-health-human-services-regulatory-impact-analyses-conceptual-framework.”.

15. On page 18411, second column, first footnote (footnote 440),

a. Line 2, the phrase “an Evaluation,” is corrected to read “and Evaluation,”.

b. Lines 5 through 8, the hyperlink https://aspe.hhs.gov/reports/valuing-time-us-departmenthealth-human-services-regulatory-impact-analysesconceptual-framework.” is corrected to read “https://aspe.hhs.gov/reports/valuing-time-us-department-health-human-services-regulatory-impact-analyses-conceptual-framework.”.

Cortney L. McCormick,
Executive Secretary to the Department, Department of Health and Human Services.

[FR Doc. 2025-10261 Filed 6-3-25; 4:15 pm]

BILLING CODE 4120-01-P